NATIONAL SCIENCE FOUNDATION

Notice of Permits Issued Under the Antarctic Conservation Act of 1978

AGENCY: National Science Foundation.

ACTION: Notice of permits issued under the Antarctic Conservation of 1978, Pub. L. 9541.

SUMMARY: The National Science Foundation (NSF) is required to publish to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On September 4, 2003, the National Science Foundation published a notice in the Federal Register of permit applications received. A permit was issued on October 21, 2003 to Gary D. Miller (2004-013).

Nadene G. Kennedy,
Permit Officer.

[FR Doc. 03-27458 Filed 10-30-03; 8:45 am]

BILLING CODE 7555-01-M